DEPARTMENT OF ENERGY

Federal Energy Regulatory Commission

[Docket Nos. CP22-21-000; CP22-21-001; CP22-22-000; CP22-22-001]

Notice of Availability of the Draft Supplemental Environmental Impact Statement for the Proposed Venture Global CP2 LNG, LLC and Venture Global CP Express, LLC CP2 LNG and CP Express Pipeline Projects

The staff of the Federal Energy Regulatory Commission (FERC or Commission) has prepared a draft supplemental environmental impact statement (EIS) to address the November 27, 2024 Order Addressing Arguments Raised on Rehearing And Setting Aside Prior Order, In Part (Rehearing Order) issued by the Commission for the CP2 LNG and CP Express Pipeline Project (Project), proposed by Venture Global CP2 LNG, LLC (CP2 LNG) and Venture Global CP Express, LLC (CP Express) in the above-referenced dockets.¹ CP2 LNG and CP Express request authorization to site, construct, and operate certain liquefied natural gas (LNG) facilities in Cameron Parish, Louisiana, and certain pipeline facilities in Louisiana and east Texas.

¹ For tracking purposes, the Council on Environmental Quality unique identification number for documents relating to this environmental review is SEIS-019-20-000-1732105621. 40 CFR 1502.4(e)(10) (2024).

On July 28, 2023, the Commission staff issued a final EIS for the Project. On June 27, 2024, the Commission issued an Order Granting Authorizations Under Sections 3 and 7 of the Natural Gas Act (Authorization Order) ² for the Project. On July 29, 2024, a coalition of petitioners (Petitioners) ³ filed a timely request for rehearing and motion for stay of the Authorization Order. On November 27, 2024, the Commission issued its Rehearing Order.⁴ The Rehearing Order set aside the Authorization Order, in part, regarding the Commission's analysis of the cumulative air quality impacts specific to the Project's nitrogen dioxide (NO2) and particles with an aerodynamic diameter of less than or equal to 2.5 microns (PM2.5) emissions, for the purpose of conducting additional environmental review in light of an opinion issued by the U.S. Court of Appeals for the District of Columbia Circuit.⁵ This draft supplemental EIS was prepared to assess these issues as part of the Commission's consideration of a further merits order for the Project.

² FERC eLibrary accession number 20240627-3107.

³ Petitioners include: A Better Bayou, Fishermen Involved in Sustaining our Heritage (FISH), Nicole Dardar, Travis Dardar, Kent Duhon, Mary Alice Nash, Jerryd Tassin, Anthony Theriot, Healthy Gulf, Louisiana Bucket Brigade, Natural Resources Defense Council, Port Arthur Community Action Network, Public Citizen, Sierra Club, Texas Campaign for the Environment, and Turtle Island Restoration Network. We note that the Commission denied FISH's late motion to intervene. Venture Glob. CP2 LNG, LLC, 187 FERC ¶ 61,199, at P 17 (2024) (Authorization Order), order on reh'g, 189 FERC ¶ 61,148, at PP 10-17 (2024) (Rehearing Order).

⁴ FERC eLibrary accession number 20241127-3065.

⁵ See Healthy Gulf v. FERC, 107 F.4th 1033 (D.C. Cir. 2024).

The Commission mailed a copy of the Notice of Availability to federal, state, and local government representatives and agencies; elected officials; environmental and public interest groups; Native American tribes; potentially affected landowners and other interested individuals and groups; and newspapers and libraries in the project area. The draft supplemental EIS is only available in electronic format. It may be viewed and downloaded from the FERC's website (www.ferc.gov), on the natural gas environmental documents page (https://www.ferc.gov/industries-data/natural-gas/environment/environmental-documents). In addition, the draft supplemental EIS may be accessed by using the eLibrary link on the FERC's website. Click on the eLibrary link (https://elibrary.ferc.gov/eLibrary/search) select “General Search” and enter the docket number in the “Docket Number” field (i.e. CP22-21 or CP22-22). Be sure you have selected an appropriate date range. For assistance, please contact FERC Online Support at FercOnlineSupport@ferc.gov or toll free at (866) 208-3676, or for TTY, contact (202) 502-8659.

The draft supplemental EIS is not a decision document. It presents Commission staff's independent analysis of the environmental issues for the Commission to consider when addressing the merits of issues in this proceeding. Any person wishing to comment on the draft supplemental EIS may do so. Your comments should focus on the draft supplemental EIS's disclosure and discussion of potential environmental effects. To ensure consideration of your comments on the proposal in the final supplemental EIS, it is important that the Commission receive your comments on or before 5:00 p.m. Eastern Time on March 31, 2025.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP22-21 and CP22-22) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: February 7, 2025.
Debbie-Anne A. Reese,
Secretary.

[FR Doc. 2025-02589 Filed 2-12-25; 8:45 am]

BILLING CODE 6717-01-P